COMMITTEE FOR PURCHASE FROM PEOPLE WHO ARE BLIND OR SEVERELY DISABLED

Chairperson and Vice Chairperson Designation Announcement

AGENCY: Committee for Purchase from People Who Are Blind or Severely Disabled.

ACTION: Notice of designation of Committee Chairperson and Vice Chairperson.

SUMMARY: Effective July 1, 2002, Steven B. Schwalb, representing the U.S. Department of Justice, and LeRoy F. Saunders, a Private Citizen from Oklahoma, will assume the responsibilities of the Committee's Chairperson and Vice Chairperson, respectively.

ADDRESSES: Committee for Purchase From People Who Are Blind or Severely Disabled, Jefferson Plaza 2, Suite 10800, 1421 Jefferson Davis Highway, Arlington, Virginia 22202-3259.

FOR FURTHER INFORMATION CONTACT: Annmarie Hart-Bookbinder (703) 603-0174.

SUPPLEMENTARY INFORMATION: This notice is published pursuant to 41 U.S.C. 46-48(c) and 41 CFR 51. The Committee Chairperson and Vice Chairperson are elected by the members of the Committee and serve a term of two years. The Chairperson carries out all statutory, regulatory and other responsibilities as prescribed by the Javits-Wagner-O'Day (JWOD) Act and Committee regulations. The Vice Chairperson undertakes these responsibilities in the Chairperson's absence.

Sheryl D. Kennerly,
Director, Information Management.

[FR Doc. 02-14344 Filed 6-6-02; 8:45 am]

BILLING CODE 6353-01-P